DEPARTMENT OF ENERGY

Federal Energy Regulatory Commission

[Docket No. CP06-422-000]

Cameron LNG, LLC, Notice of Application

July 28, 2006.

Take notice that on July 18, 2006, as supplemented on July 27, 2006, Cameron LNG, LLC (Cameron LNG) filed an application pursuant to section 3 of the Natural Gas Act (NGA) and Part 153 of the Commission's Rules and Regulations for approval of proposed expansion and modifications of its liquefied natural gas (LNG) import terminal. The Commission has previously granted approvals for Cameron LNG's import terminal, which is now under construction.¹

¹ See Hackberry LNG Terminal, L.L.C., 101 FERC 61,294 (2002) and Cameron LNG, LLC; 104 FERC 61,269 (2003); 111 FERC 61,018 (2005), and 115 FERC 61,229 (2006).

This filing is available for review at the Commission in the Public Reference Room or may be viewed on the Commission's Web site at http://www.ferc.gov using the “eLibrary link. Enter the docket number excluding the last three digits in the docket number field to access the document. For assistance please contact FERC Online Support at FERCOnlineSupport@ferc.gov or toll free at (866) 208-3676, or for TTY, contact (202) 502-8659.

Any questions regarding the application may be directed to Stacy Van Goor, Director, Federal Regulatory Affairs, Sempra Global, 101 Ash Street HQ08C, San Diego, California 92101. Telephone number is 619-696-2264. Facsimile number is 619-696-2500. E-mail address is svangoor@sempraglobal.com.

The application seeks authority to expand the LNG terminal facilities previously approved and, in particular: (i) To increase the sendout rate of the terminal to 2,650,000 Mcf/d from the previously authorized send out rate of 1,500,000 Dth/d; (ii) to increase LNG storage tank capacity from 480,000 m³ to 640,000 m³ through the addition of a fourth storage tank; (iii) to increase the LNG unloading rate at each ship berth; (iv) to increase the send out rate to 1,800,000 Mcf/d from the previously certificated send out rate of 1,500,000 Dth/d, on an interim basis, while the proposed expansion facilities are being constructed, and (v) to modify the Btu control unit to include an option for diluting the send out gas with an inert gas stream composed of nitrogen and oxygen in addition to, or as an alternative to the liquids-stripping facility previously identified by Cameron LNG in earlier applications.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Please note that on February 10, 2006, the Commission issued a Notice of Intent to Prepare an Environmental Assessment for Cameron LNG's above proposed LNG terminal expansion project in Docket No. PF06-10-000. The environmental pre-filing review of Cameron LNG's proposal has been underway since December 2005 in that docket. However, Docket No. PF06-10-000 is now closed and all further environmental comments should reference the pending application in Docket No. CP06-422-000.

Motions to intervene, protests and comments may be filed electronically via the internet in lieu of paper; see, 18 CFR 385.2001(a)(1)(iii) and the instructions on the Commission's Web site under the “e-Filing” link. The Commission strongly encourages electronic filings.

Comment Date: August 21, 2006.

Magalie R. Salas,
Secretary.

[FR Doc. E6-12711 Filed 8-4-06; 8:45 am]

BILLING CODE 6450-01-P